DEPARTMENT OF HEALTH AND HUMAN SERVICES

Substance Abuse and Mental Health Services Administration

Office for Women's Services; Notice of a Meeting

Pursuant to Public Law 92-463, notice is hereby given of a meeting of the Substance Abuse Mental Health Services Administration (SAMHSA) Advisory Committee for Women's Services to be held in April 2005.

The SAMHSA Advisory Committee for Women's Services' meeting will be open and will include presentations and discussions on activities involving women as they relate to mental health and data, children, family therapy, trauma, obesity and treatment. Also, there will be updates on SAMHSA's budget and legislation programs.

Public attendance and public comments are welcome. Please communicate with the individual listed below to make arrangements to comment or to request special accommodations for persons with disabilities.

Substantive program information and a roster of Committee members may be obtained by accessing the SAMHSA Advisory Councils' Web site (http://www.samhsa.gov) as soon as possible after the meeting or by communicating with the contact whose name and telephone number are listed below. The transcript for the session will also be available on the SAMHSA Advisory Council Web site as soon as possible after the meeting.

Committee Name: SAMHSA Advisory Committee for Women's Services.

Meeting Date/Time: Open—Monday, April 18, 2005; 9 a.m.-5 p.m. Open—Tuesday, April 19, 2005; 9 a.m.-12 noon.

Place: 1 Choke Cherry Road, Sugarloaf Room, Rockville, MD 20857.

For Further Information Contact: Carol Watkins, Executive Secretary, 1 Choke Cherry Road, Room 8-1002, Rockville, MD 20857, Telephone: (240) 276-2254: Fax: (240) 276-2252, E-mail: carol.watkin2@samhsa.hhs.gov.

Dated: March 30, 2005.
Toian Vaughn,
Committee Management Officer, Substance Abuse and Mental Health, Services Administration.

[FR Doc. 05-6676 Filed 4-4-05; 8:45 am]

BILLING CODE 4162-20-P